DEPARTMENT OF TRANSPORTATION

Federal Aviation Administration

14 CFR Part 39

[Docket No. FAA-2004-18034; Directorate Identifier 2004-CE-18-AD; Amendment 39-13905; AD 2004-25-17]

RIN 2120-AA64

Airworthiness Directives; LETECKÉ ZÁVODY Model L 23 SUPER—BLANIK Sailplanes

AGENCY: Federal Aviation Administration (FAA), DOT.

ACTION: Final rule.

SUMMARY: The FAA adopts a new airworthiness directive (AD) for certain LETECKÉ ZÁVODY Model L 23 SUPER—BLANIK sailplanes. This AD requires you to do a repetitive, non-destructive magnetic test (NDMT) inspection on the elevator rocker lever (part number A 730 201 N) for cracks. If cracks are found, this AD also requires you to return the part to the manufacturer. The manufacturer will send you a replacement part for installation. Installing the improved replacement part terminates the need for the repetitive inspections. This AD is the result of mandatory continuing airworthiness information (MCAI) issued by the airworthiness authority for the Czech Republic. We are issuing this AD to prevent failure of the elevator rocker lever caused by cracks that resulted from a defect in prior manufacturing procedures. Such failure could lead to loss of control of the sailplane.

DATES: This AD becomes effective on January 28, 2005.

As of January 28, 2005, the Director of the Federal Register approved the incorporation by reference of certain publications listed in the regulation.

ADDRESSES: To get the service information identified in this AD, contact LETECKÉ ZÁVODY a.s., 686 04 Kunovice 1177, Czech Republic. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-0001 or on the Internet at http://dms.dot.gov. The docket number is FAA-2004-18034.

FOR FURTHER INFORMATION CONTACT: Gregory A. Davison, Aerospace Engineer, FAA, Small Airplane Directorate, 901 Locust, Room 301, Kansas City, Missouri 64106; telephone: (816) 329-4130; facsimile: (816) 329-4090.

SUPPLEMENTARY INFORMATION:

Discussion

What events have caused this AD? The Civil Aviation Authority (CAA), which is the airworthiness authority for the Czech Republic, recently notified FAA that an unsafe condition may exist on certain LETECKÉ ZÁVODY Model L 23 SUPER—BLANIK sailplanes. The CAA reports that, during an accident investigation, cracks were found on the elevator rocker lever.

The manufacturer has identified a problem with its quality control inspection procedures during the production of the original elevator rocker lever part prior to January 2004. Micro-cracks or voids were not detected when the parts left production and were installed on the affected sailplanes. These discrepancies may cause fatigue failure of the elevator rocker lever.

In January 2004, the manufacturer changed its manufacturing process and is currently replacing any existing defective elevator rocker levers within the specified affected sailplanes.

What is the potential impact if FAA took no action? If not detected and corrected, cracks in the elevator rocker lever could cause the lever to fail. Such failure could result in loss of control of the sailplane.

Has FAA taken any action to this point? We issued a proposal to amend part 39 of the Federal Aviation Regulations (14 CFR part 39) to include an AD that would apply to certain LETECKÉ ZÁVODY Model L 23 SUPER—BLANIK sailplanes. This proposal was published in the Federal Register as a notice of proposed rulemaking (NPRM) on September 2, 2004 (69 FR 53655). The NPRM proposed to require you to do a repetitive, non-destructive magnetic test (NDMT) inspection on the elevator rocker lever (part number A 730 201 N) for cracks. If cracks are found, the NPRM also proposed to require you to return the part to the manufacturer. The manufacturer will send you a replacement part for installation. Installing the improved replacement part would terminate the need for the repetitive inspections.

What is the difference between this AD and the CAA AD? The CAA AD requires doing the initial inspection prior to further flight after the effective date of this AD. We are requiring that you do the initial inspection within the next 25 hours time-in-service (TIS) after the effective date of this AD.

We do not have justification to require this action prior to further flight. We use compliance times such as this when we have identified an urgent safety of flight situation. We believe that 25 hours TIS will give the owners or operators of the affected sailplanes enough time to have the actions required by this AD done without compromising the safety of the sailplanes.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 103 sailplanes in the U.S. registry.

What is the cost impact of this AD on owners/operators of the affected sailplanes? We estimate the following costs to accomplish the inspections:

Labor cost | Parts cost | Total cost per sailplane | Total cost on U.S. operators
2 workhours × $65 per hour = $130 | Not applicable | $130 | $130 × 103 = $13,390.

We estimate the following costs to accomplish any necessary replacements that will be required based on the results of the inspections. We have no way of determining the number of sailplanes that may need this replacement:

Labor cost | Parts cost | Total cost per sailplane
2 workhours × $65 = $130 | Parts provided by the manufacturer at no cost | $130 × 103 = $13,390.

Authority for this Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-18034; Directorate Identifier 2004-CE-18-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-25-17 LETECKÉ ZÁVODY: Amendment 39-13905; Docket No. FAA-2004-18034; Directorate Identifier 2004-CE-18-AD.

When Does This AD Become Effective?

(a) This AD becomes effective on January 28, 2005.

What Other ADs Are Affected by This Action?

(b) None.

What Sailplanes Are Affected by This AD?

(c) This AD affects Model L 23 SUPER—BLANIK sailplanes, all serial numbers up to and including 039019, that are certificated in any category.

What Is the Unsafe Condition Presented in This AD?

(d) This AD is the result of mandatory continuing airworthiness information (MCAI) issued by the airworthiness authority for the Czech Republic. We are issuing this AD to prevent fatigue failure of the elevator rocker lever. This failure could lead to loss of control of the sailplane.

What Must I Do To Address This Problem?

(e) To address this problem, you must do the following:

Actions | Compliance | Procedures
(1) Do a non-destructive magnetic test (NDMT) inspection on the elevator rocker lever (part number A 730 201 A) for cracks and deficiencies | Initially inspect within the next 25 hours time-in-service (TIS) after January 28, 2005 (the effective date) of this AD. If no cracks or deficiencies are found, reinstall and repetitively inspect thereafter at intervals not to exceed 100 hours TIS until the replacement in paragraph (e)(2) of this AD is done. The replacement in paragraph (e)(2) of this AD is the terminating action for the repetitive inspection requirements in this AD | Follow the work procedures in LETECKÉ ZÁVODY Mandatory Bulletin MB No.: L23/48a, not dated.
(2) If cracks are found during any inspection required in paragraph (e)(1) of this AD, send the cracked part and a report of the inspection that contains the information about the position and size of cracks, the serial number of the sailplane, and the total number of hours TIS since new to LETECHKÉ ZÁVODY at the address specified in paragraph (h) of this AD (i) The manufacturer will send you a replacement part for installation. (ii) The Office of Management and Budget (OMB) approved the information collection requirements contained in this regulation under the provisions of the Paperwork Reduction Act of 1980 (44 U.S.C. 3501 et seq.) and assigned OMB Control Number 2120-0056 | Return the cracked elevator rocker lever to the manufacturer and install the replacement part prior to further flight after the inspection in which cracks are found. Prior to installing the new part, place a permanent (paint) blue dot approximately 0.25 inches in diameter in an open location on the elevator rocker lever. Installing the replacement part received from the manufacturer is the terminating action for the repetitive inspection requirements in paragraph (e)(1) of this AD | Follow the work procedures in LETECHKÉ ZÁVODY Mandatory Bulletin MB No.: L23/48a, not dated.
(3) You may terminate the repetitive inspections required in paragraph (e)(1) of this AD by: (i) Replacing the elevator rocker lever with one obtained from the manufacturer at the address specified in paragraph (h) of this AD; and (ii) Prior to installing the new part, place a permanent (paint) blue dot approximately 0.25 inches in diameter in an open location on the elevator rocker lever | At any time after the initial inspection required in paragraph (e)(1) of this AD | Not applicable.
(4) If you have already replaced the defective elevator rocker lever with a manufacturer-approved lever that was produced in January 2004 or later following LETECHKÉ ZÁVODY Mandatory Bulletin MB No.: L23/48a, not dated, you may take credit for compliance with this AD by having an appropriately-rated mechanic do the following: (i) Make a log book entry showing compliance with this AD; and (ii) Place a permanent (paint) blue dot approximately 0.25 inches in diameter in an open location on the newly installed elevator rocker lever. | As of January 28, 2005 (the effective date of this AD) | Not applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Gregory A. Davison, Aerospace Engineer, FAA, Small Airplane Directorate, 901 Locust, Room 301, Kansas City, Missouri 64106; telephone: (816) 329-4130; facsimile: (816) 329-4090.

Is There Other Information That Relates to This Subject?

(g) Czech Republic AD Number CAA-AD-T-005/2004, dated January 16, 2004, also addresses the subject of this AD.

Does This AD Incorporate Any Material by Reference?

(h) You must do the actions required by this AD following the instructions in LETECKÉ ZÁVODY Mandatory Bulletin MB No.: L23/48a (referenced in Czech Republic AD Number CAA-AD-T-005/2004, dated January 16, 2004). The Director of the Federal Register approved the incorporation by reference of this service bulletin in accordance with 5 U.S.C. 552(a) and 1 CFR part 51. To get a copy of this service information, contact LETECKÉ ZÁVODY a.s., 686 04 Kunovice 1177, Czech Republic. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-0001 or on the Internet at http://dms.dot.gov. The docket number is FAA-2004-18034.

Issued in Kansas City, Missouri, on December 6, 2004.
William J. Timberlake,
Acting Manager, Small Airplane Directorate, Aircraft Certification Service.

[FR Doc. 04-27284 Filed 12-15-04; 8:45 am]

BILLING CODE 4910-13-P